FEDERAL ELECTION COMMISSION

Sunshine Act Meetings

AGENCY: Federal Election Commission.

Federal Register Citation of Previous Announcment—78 FR 25740 (May 2, 2013)

DATE & TIME: Tuesday, May 7, 2013 at 10:00 A.M.

PLACE: 999 E Street NW., Washington, DC.

STATUS: This meeting will be closed to the public.

CHANGES IN THE MEETING: The May 7, 2013 meeting will be continued on Thursday, May 9, 2013 after the conclusion of the open meeting.

PERSON TO CONTACT FOR INFORMATION: Judith Ingram, Press Officer. Telephone: (202) 694-1220.

Shelley E. Garr,
Deputy Secretary of the Commission.

[FR Doc. 2013-10756 Filed 5-2-13; 11:15 am]

BILLING CODE 6715-01-P